SMALL BUSINESS ADMINISTRATION

Public Federal Regulatory Enforcement Fairness Hearing; Region I Regulatory Fairness Board

The U.S. Small Business Administration (SBA) Region I Regulatory Fairness Board and the SBA Office of the National Ombudsman will hold a National Regulatory Fairness Hearing on Thursday, August 16, 2007, at 10 a.m. The forum will take place at the Portland SCORE Office, 100 Middle Street, 2nd Floor, Portland, ME 04101. The purpose of the meeting is for Business Organizations, Trade Associations, Chambers of Commerce and related organizations serving small business concerns to report experiences regarding unfair or excessive Federal regulatory enforcement issues affecting their members.

Anyone wishing to attend or to make a presentation must contact Bonnie Erickson, in writing or by fax in order to be placed on the agenda. Bonnie Erickson, Public Information Officer, SBA, Augusta District Office, 68 Sewall Street, Room 512, Augusta, ME 04330, phone (207) 622-8275 and fax (207) 622-8277, e-mail: Bonnie.erickson@sba.gov.

For more information, see our Web site at http://www.sba.gov/ombudsman.

Matthew Teague,
Committee Management Officer.

[FR Doc. E7-15315 Filed 8-6-07; 8:45 am]

BILLING CODE 8025-01-P